DEPARTMENT OF HEALTH AND HUMAN SERVICES

National Institutes of Health

Submission for OMB Review; 30-Day Comment Request; National Institute on Drug Abuse Adolescent Brain & Cognitive Development (ABCD) Study℠—Audience Feedback Teams

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Dr. Kimberly LeBlanc, Scientific Program Manager, Division of Extramural Research, National Institute on Drug Abuse, C/O NIH Mail Center/Dock 11, 3WFN Room 09C77, MSC 6021, Gaithersburg, MD 20877 (20892 for USPS), or call non-toll-free number (301) 827-4102, or Email your request, including your address, to: kimberly.leblanc@nih.gov.

SUPPLEMENTARY INFORMATION: This proposed information collection was previously published in the Federal Register on October 2, 2023, page 67775-67776 (88 FR 67775) and allowed 60 days for public comment. No public comments were received. The purpose of this notice is to allow an additional 30 days for public comment. The National Institute on Drug Abuse (NIDA), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed Collection: Adolescent Brain & Cognitive Development (ABCD) Study℠—Audience Feedback Teams, 0925—NEW, exp., date XX/XX/XXXX, National Institute on Drug Abuse (NIDA), National Institutes of Health (NIH).

Need and Use of Information Collection: The purpose of this information collection request is to solicit audience feedback to improve the data collection process for the Adolescent Brain Cognitive Development (ABCD) Study. Started in 2015, the ABCD Study® follows a cohort of over 10,000 young people from pre-adolescence into adulthood to understand how growing brains are shaped by experiences and biology. To prepare for each year's Study data collection, the National Institute of Health is collecting audience feedback on a selection of survey questions and research protocols. Parents/caregivers and teens who are the same age as the study cohort members but who are not Study participants will review proposed questions and give feedback on questions' clarity and acceptability. Recommendations from these findings help the ABCD Study team improve their protocol for a more-successful data collection.

Audience feedback activities will include a mix of asynchronous and scheduled, live data collection: web-based survey activities, virtual discussion boards, individual interviews, and discussions groups. Assembling a cohort of audience feedback participants who are familiar with the ABCD Study and participate in multiple data collection activities minimizes the burden required to familiarize new participants with the purpose of the Study and the expectations for audience feedback.

OMB approval is requested for 3 years. There are no costs to respondents other than their time. The total estimated annualized burden hours are 172.

Estimated Annualized Burden Hours
Type of respondent | Number of respondents | Number of responses per respondent | Average time per response (in hours) | Total annual burden hour
Individuals (Parent/Caregiver Phone Screener) | 72 | 1 | 5/60 | 6
Individuals (Parent/Caregiver Consent) | 15 | 1 | 5/60 | 1
Individuals (Parent/Caregiver Permission for Teen Participation) | 36 | 1 | 5/60 | 3
Individuals (Teen Phone Screener) | 72 | 1 | 5/60 | 6
Individuals (Teen Assent or Consent) | 36 | 1 | 10/60 | 6
Individuals (Teen Web Survey) | 36 | 2 | 30/60 | 36
Individuals (Parent/Caregiver Web Survey) | 15 | 2 | 30/60 | 15
Individuals (Teen Virtual Group Discussion or Online Bulletin Board) | 36 | 2 | 1 | 72
Individuals (Parent/Caregiver Virtual Interview) | 15 | 1 | 30/60 | 8
Individuals (Parent/Caregiver Online Bulletin Board) | 15 | 1 | 1 | 15
Individuals (Parent/Caregiver “At-Home” Materials Review) | 15 | 1 | 15/60 | 4
Total |  | 450 |  | 172

Lanette A. Palmquist,
Project Clearance Liaison, National Institute on Drug Abuse, National Institutes of Health.

[FR Doc. 2024-00760 Filed 1-16-24; 8:45 am]

BILLING CODE 4140-01-P